DEPARTMENT OF ENERGY

10 CFR Part 430

[Docket No. EERE-2013-BT-STD-0051]

RIN 1904-AD09

Energy Efficiency Program for Consumer Products: Energy Conservation Standards for General Service Lamps: Preliminary Technical Support Document

AGENCY: Office of Energy Efficiency and Renewable Energy, Department of Energy.

ACTION: Extension of public comment period.

SUMMARY: This document announces an extension of the time period for submitting comments, data and information on the preliminary technical support document (TSD) for general service lamps (GSLs) energy conservation standards published on December 11, 2014. The comment period is extended to February 23, 2015.

DATES: The comment period for the preliminary TSD for GSLs published on December 11, 2014 (79 FR 73503) is extended to February 23, 2015.

ADDRESSES: Interested persons may submit comments, identified by docket number EERE-2013-BT-STD-0051 and/or Regulation Identification Number (RIN) 1904-AD09, by any of the following methods:

• Federal eRulemaking Portal: www.regulations.gov. Follow the instructions for submitting comments.

• Email: GSL2013STD0051@ee.doe.gov. Include the docket number EERE-2013-BT-STD-0051 and/or RIN 1904-AD09 in the subject line of the message.

• Mail: Ms. Brenda Edwards, U.S. Department of Energy, Building Technologies Program, Mailstop EE-5B, 1000 Independence Avenue SW., Washington, DC 20585-0121. If possible, please submit all items on a compact disc (CD), in which case it is not necessary to include printed copies. [Please note that comments and CDs sent by mail are often delayed and may be damaged by mail screening processes.]

• Hand Delivery/Courier: Ms. Brenda Edwards, U.S. Department of Energy, Building Technologies Program, 950 L'Enfant Plaza SW., Suite 600, Washington, DC 20024. Telephone (202) 586-2945. If possible, please submit all items on CD, in which case it is not necessary to include printed copies.

Docket: The docket is available for review at www.regulations.gov, including Federal Register notices, framework documents, public meeting attendee lists and transcripts, comments, and other supporting documents/materials. All documents in the docket are listed in the www.regulations.gov index. However, not all documents listed in the index may be publicly available, such as information that is exempt from public disclosure.

The rulemaking Web page can be found at: http://www1.eere.energy.gov/buildings/appliance_standards/rulemaking.aspx/ruleid/83. This Web page contains a link to the docket for this notice on the regulation.gov site. The www.regulations.gov Web page contains instructions on how to access all documents in the docket, including public comments.

FOR FURTHER INFORMATION CONTACT: Ms. Lucy deButts, U.S. Department of Energy, Office of Energy Efficiency and Renewable Energy, Building Technologies, EE-5B, 1000 Independence Avenue SW., Washington, DC 20585-0121. Telephone: (202)-287-1604. Email: GSL@ee.doe.gov.

In the Office of the General Counsel, contact Ms. Celia Sher, U.S. Department of Energy, Office of the General Counsel, GC-33, 1000 Independence Avenue SW., Washington, DC 20585-0121. Telephone: (202) 287-6122. Email: Celia.Sher@hq.doe.gov.

SUPPLEMENTARY INFORMATION: On December 11, 2014, the U.S. Department of Energy (DOE) published a notice of public meeting and availability of the preliminary TSD in the Federal Register to make available and invite comments on the preliminary analysis for establishing energy conservation standards for GSLs. 79 FR 73503. The notice provided for the written submission of comments by February 9, 2015, and oral comments were also accepted at a public meeting held on January 20, 2015. The National Electrical Manufacturers Association requested an extension of the public comment period to ensure adequate time to consider the preliminary technical support document and public meeting presentation, and to prepare and submit comments accordingly.

DOE has determined that an extension of the public comment period is appropriate to allow interested parties additional time to submit comments for DOE's consideration. Thus, DOE is extending the comment period by 14 days. DOE will consider any comments received by midnight of February 23, 2015 to be timely submitted.

Issued in Washington, DC, on January 26, 2015.
Kathleen B. Hogan,
Deputy Assistant Secretary for Energy Efficiency, Energy Efficiency and Renewable Energy.

[FR Doc. 2015-01779 Filed 1-29-15; 8:45 am]

BILLING CODE 6450-01-P